DEPARTMENT OF ENERGY

Submission for OMB Review; Comment Request

AGENCY: Office of Energy Efficiency and Renewable Energy, Department of Energy.

ACTION: Notice and request for comments.

SUMMARY: The Department of Energy (DOE) has submitted the proposed information collection request (ICR) described in this notice to the Office of Management and Budget (OMB) for review and approval in accordance with the Paperwork Reduction Act of 1995 (Pub. L. 104-13. 44 U.S.C. Chapter 35). The OMB is particularly interested in comments which evaluate: (1) whether the proposed collection of information is necessary to measure the progress and success of the Combined Heat and Power Registry, (2) the accuracy of DOE's estimate of the burden of the proposed information collection, (3) ways to enhance the quality, utility, and clarity of the information to be collected, and (4) ways to minimize the burden of the collection of information on those who choose to respond.

There were not any comments received during the 60 day notice period.

DATES: Comments regarding this collection of information should be received on or before November 16, 2000.

ADDRESSES: Comments should be sent to the Office of Management and Budget, Office of Information and Regulatory Affairs, Attention: OMB Desk Officer for DOE, Room 10202, New Executive Office Building, 725 17th Street, NW., Washington DC. A copy of the comments should also be sent to Merrill Smith, Office of Power Technologies, Department of Energy, Room 5H-088, 1000 Independence Avenue, SW., Washington, DC 20585.

FOR FURTHER INFORMATION CONTACT: A copy of the ICR, with applicable supporting documentation, may be obtained from: Merrill Smith, Office of Power Technologies, Department of Energy, Room 5H-088, 1000 Independence Avenue, SW., Washington, DC 20585, (202) 586-3646; or e-mail to merrill.smith@ee.doe.gov.

SUPPLEMENTARY INFORMATION: The following proposed collection of information has been sent to OMB for clearance:

Collection Title: U.S. Department of Energy/Combined Heat and Power Registry

Type of Review: New collection.

OMB Number: None.

Type of Respondents: Individuals, Businesses, State and Local Governments.

Estimated Number of Respondents: 1,000.

Estimated Total Burden Hours: 500.

Frequency of Response: One time only.

Abstract

DOE plans to publicize widely the existence of the registry through it's Regional Support Offices, the CHP website, meetings, conferences and the like, and through its relationship with CHP organizations. Due to the recent high level of interest in CHP, DOE expects that many CHP installers, individuals, utilities, governments, and businesses will wish to register their CHP systems in order to gain recognition on the CHP webpage and also be potentially eligible for an award. Registration would take place electronically (a paper form would be available upon request) by responding to a series of very brief questions. If a system met the established criteria, a CHP certificate would be sent to the facility. Registration would take place one time only. DOE plans to aggregate the data and generate reports detailing the geographic distribution of systems and among other things, the sizes and types of systems. This data collection will assist DOE in its management of and planning for the continued success of the CHP initiative.

Issued in Washington, DC, on October 10, 2000.
Dan W. Reicher,
Assistant Secretary, Energy Efficiency and Renewable Energy.

[FR Doc. 00-26622 Filed 10-16-00; 8:45 am]

BILLING CODE 6450-01-P